OFFICE OF PERSONNEL MANAGEMENT

Submission for Review: Presidential Management Fellows (PMF) Application, 3206-0082

AGENCY: U.S. Office of Personnel Management.

ACTION: 60-Day notice and request for comments.

SUMMARY: The Office of Personnel Management (OPM) offers the general public and other Federal agencies the opportunity to comment on a reinstatement, with change, of a previously approved collection for which approval has expired, for information collection request (ICR) 3206-0082, Presidential Management Fellows (PMF) Application. As required by the Paperwork Reduction Act of 1995 (Pub. L. 104-13, 44 U.S.C. chapter 35), as amended by the Clinger-Cohen Act (Pub. L. 104-106), OPM is soliciting comments for this collection on behalf of the Office of Management and Budget. Changes to this collection include: (1) Reduction in estimated responses, (2) adjustments to the list of degrees\disciplines based on Federal agency estimates (including adjustments for needed STEM (Science, Technology, Engineering, and Mathematics) degrees\disciplines), (3) adjustments to the list of additional skills and attributes based on Federal agency estimates, (4) adjustments to the list of languages based on Federal agency estimates, and (5) the potential to ask applicants preferred geographic location if selected as a Semi-Finalist in choosing an in-person assessment center location.

The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until September 6, 2016. This process is conducted in accordance with 5 CFR 1320.1.

ADDRESSES: Interested persons are invited to submit written comments on the proposed information collection to the U.S. Office of Personnel Management, PMF Program Office, Attention: Rob Timmins, 1900 E Street NW., Room 6500, Washington, DC 20415, or sent via electronic mail to pmf@opm.gov.

FOR FURTHER INFORMATION CONTACT: A copy of this ICR, with applicable supporting documentation, may be obtained by contacting the U.S. Office of Personnel Management, PMF Program Office, Attention: Rob Timmins, 1900 E Street NW., Room 6500, Washington, DC 20415, or sent via electronic mail to pmf@opm.gov.

SUPPLEMENTARY INFORMATION: Executive Order 13562, Recruiting and Hiring Students and Recent Graduates, and implementing regulations increased the applicant window of eligibility. Students about to complete an advanced degree and individuals who completed an advanced degree, from an accredited academic institution, within the two years prior to the opening date will use the application to apply for the Presidential Management Fellows (PMF) Program. Advanced degree is defined as a master's, professional, or doctorate degree.

The annual application is available as an embedded link with an announcement posted on USAJOBS (www.USAJOBS.gov). Applicants are asked to submit a resume and transcript; submit supporting documentation for claiming veterans' preference or Indian preference, or requesting reasonable accommodations; complete an on-line assessment; and, submit three essays as part of the assessment process. Information on the PMF Program and the application process can be found at www.pmf.gov.

Analysis

Agency: U.S. Office of Personnel Management.

Title: Presidential Management Fellows (PMF) Application.

OMB Number: 3206-0082.

Affected Public: Current graduate students who are expected to complete their advanced degree requirements by August 31st of the following year upon applying and individuals who obtained an advanced degree within the previous two years from the annual application launching, from an accredited academic institution.

Number of Respondents: 8,200 (average number of applicants from 2013 thru 2016).

Estimated Time per Respondent: 15 minutes.

Total Burden Hours: 2,050 hours.

U.S. Office of Personnel Management.
Beth F. Cobert,
Acting Director.

[FR Doc. 2016-15861 Filed 7-5-16; 8:45 am]

BILLING CODE 6325-43-P